NUCLEAR REGULATORY COMMISSION

[NRC-2017-0199]

Availability of Revised NRC Form 3, “Notice to Employees”

AGENCY: Nuclear Regulatory Commission.

ACTION: Generic communications; issuance.

SUMMARY: The U.S. Nuclear Regulatory Commission (NRC) is announcing the availability of the latest version of NRC Form 3, “Notice to Employees.” The NRC Form 3 describes certain responsibilities and rights of employers and employees who engage in NRC-regulated activities. Licensees are required by law to post the form at prominent locations at the workplace to permit workers to view it easily. Additionally, the NRC is announcing that future revisions of Form 3 will be publicized through an alternative electronic means in addition to the Federal Register.

DATES: The revised form is available as of October 4, 2017.

ADDRESSES: Please refer to Docket ID NRC-2017-0199 when contacting the NRC about the availability of information regarding this document. You may obtain publicly-available information related to this document using any of the following methods:

• Federal Rulemaking Web site: Go to http://www.regulations.gov and search for Docket ID NRC-2017-0199. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Lisamarie L. Jarriel, Office of Enforcement, U.S. Nuclear Regulatory Commission, Washington, DC 20555-0001; telephone: 301-287-9006, email: Lisamarie.Jarriel@nrc.gov.

SUPPLEMENTARY INFORMATION:

Background

The purpose of this notice is to inform all licensees that NRC Form 3, “Notice to Employees,” has been revised. The NRC Form 3 describes certain responsibilities and rights of employers and employees who engage in NRC-regulated activities, including how employees can report violations or other safety concerns directly to the NRC. Section 19.11(e)(1) of title 10 of the Code of Federal Regulations (10 CFR), states that licensees shall prominently post the most recent version of NRC Form 3, “Notice to Employees” within 30 days of receiving the revised NRC Form 3 from the Commission.

In a 1997 rulemaking, 10 CFR 19.11 was amended to incorporate a reference to the latest version of NRC Form 3. This eliminated the need to revise the CFR whenever NRC Form 3 is changed, which had been the previous practice. The final rule published on September 15, 1997 (62 FR 48165) indicated that the NRC would inform licensee of future changes to NRC Form 3 by an administrative letter and, in addition, the availability of any new versions would be noticed in the Federal Register. Administrative letters were a type of generic communication issued to inform addressees of specific regulatory or administrative information but were discontinued in September 1999. As such, in lieu of an administrative letter, this revision and future revisions will be publicized through an alternative electronic means (i.e. Web site notice, social networking service, etc.) to alert all licensees of the new revisions, as well as in the Federal Register.

A new version of NRC Form 3 was issued in August 2017, to make a correction to the map of the NRC Regions and clarify operation of the Headquarters Operations Center. To view the current version of NRC Form 3 (8/2017), please go to https://www.nrc.gov/reading-rm/doc-collections/forms/nrc3.pdf. A Spanish language version of the form (NRC Form 3A) can also be found at https://www.nrc.gov/reading-rm/doc-collections/forms/nrc3a.pdf . Additional copies of NRC Form 3 may be obtained by writing to the Regional Administrator of the appropriate U.S. Nuclear Regulatory Commission Regional Office, or via email to FORMS.Resource@nrc.gov. A list of current NRC Headquarters and Regional offices is available on NRC's public Web site, http://www.nrc.gov/about-nrc/locations.html.

Dated at Rockville, Maryland, this 28th day of September 2017.
For the Nuclear Regulatory Commission.
Patricia K. Holahan,
Director, Office of Enforcement.

[FR Doc. 2017-21349 Filed 10-3-17; 8:45 am]

BILLING CODE 7590-01-P